DEPARTMENT OF THE INTERIOR

Geological Survey

[GX23EF000COM00; OMB Control Number 1028-0092]

Agency information collection Activities; Submission to the Office of Management and Budget for Review and Approval; Topographic and Hydrography Data Grants

AGENCY: U.S. Geological Survey, Interior.

ACTION: Notice of Information Collection; request for comment.

SUMMARY: In accordance with the Paperwork Reduction Act of 1995 (PRA), the U.S. Geological Survey (USGS) is proposing to renew an information collection with revisions.

DATES: Interested persons are invited to submit comments on or before December 19, 2022.

ADDRESSES: Written comments and recommendations for the proposed information collection should be sent within 30 days of publication of this notice to www.reginfo.gov/public/do/PRAMain. Find this particular information collection by selecting “Currently under 30-day Review—Open for Public Comments” or by using the search function. U.S. Geological Survey, Information Collections Officer, 12201 Sunrise Valley Drive MS 159, Reston, VA 20192; or by email to gs-info_collections@usgs.gov. Please reference OMB Control Number 1028-0092 in the subject line of your comments.

FOR FURTHER INFORMATION CONTACT: To request additional information about this Information Collection Request (ICR), contact Susan Buto by email at sbuto@usgs.gov, or by telephone at 775-546-3059. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 22, 2021 (86 FR 72613). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The USGS gathers topographic data through the 3D Elevation Program (3DEP) and, contingent on funding, the 3D Hydrography Program (3DHP). The primary goal of 3DEP is to systematically collect three-dimensional (3D) elevation data in the form of high-quality light detection and ranging (lidar) data for the conterminous United States, Hawaii, and the U.S. territories and to collect interferometric synthetic aperture radar (IfSAR) data for Alaska. The primary goal of the 3DHP is to leverage 3DEP data to create a high-precision, z-enabled representation of the surface waters of the United States and its territories. The implementation model for 3DEP is based on multi-agency partnership funding for topographic data acquisition, with the USGS leading management of the program to facilitate planning and acquisition and use of government contracts and partnership agreements for the broader community. The USGS issues an annual Broad Agency Announcement (BAA), which is a competitive solicitation issued to facilitate agreements with partners to collect lidar and derived elevation data for 3DEP. The BAA has been included in the annual Catalog of Federal Domestic Assistance under USGS 15.8 17. Federal agencies, state and local governments, tribes, academic institutions, and the private sector are eligible to submit proposals. The USGS collects information from applicants about their proposed topographic data collection and cost-sharing offers and then uses that information to determine grant awards. Implementation of 3DHP will follow the 3DEP model over time as funding permits. This ICR expands the scope of the collection to include proposals for both the 3DEP and 3DHP BAA activities.

Title of Collection: Topographic and Hydrography Data Grants.

OMB Control Number: 1028-0092.

Form Number: None

Type of Review: Extension of a currently approved collection with revision.

Respondents/Affected Public: Federal agencies, State and local governments, tribes, academic institutions, and the private sector.

Total Estimated Number of Annual Respondents: 80.

Total Estimated Number of Annual Responses: 80.

Estimated Completion Time per Response: 41 hours.

Total Estimated Number of Annual Burden Hours: 3,280.

Respondent's Obligation: Voluntary.

Frequency of Collection: Annually.

Total Estimated Annual Nonhour Burden Cost: None.

An agency may not conduct or sponsor, nor is a person required to respond to, a collection of information unless it displays a currently valid OMB control number.

The authority for this action is the PRA (44 U.S.C. 3501 et seq.).

Michael Tischler,
Director, USGS National Geospatial Program.

[FR Doc. 2022-25094 Filed 11-17-22; 8:45 am]

BILLING CODE 4338-11-P